INTERNATIONAL TRADE COMMISSION

[Investigation Nos. 701-TA-587 and 731-TA-1385-1386 (Preliminary)]

Titanium Sponge From Japan and Kazakhstan; Determinations

On the basis of the record¹ developed in the subject investigations, the United States International Trade Commission (“Commission”) determines, pursuant to the Tariff Act of 1930 (“the Act”), that there is no reasonable indication that an industry in the United States is materially injured or threatened with material injury, or that the establishment of an industry in the United States is materially retarded, by reason of imports of titanium sponge from Japan and Kazakhstan, provided for in subheading 8108.20.00 of the Harmonized Tariff Schedule of the United States, that are alleged to be sold in the United States at less than fair value (“LTFV”) and to be subsidized by the government of Kazakhstan.

¹ The record is defined in sec. 207.2(f) of the Commission's Rules of Practice and Procedure (19 CFR 207.2(f)).

Background

On August 24, 2017, Titanium Metals Corporation, Exton, PA, filed a petition with the Commission and the U.S. Department of Commerce, alleging that an industry in the United States is materially injured and threatened with material injury by reason of LTFV imports of titanium sponge from Japan and Kazakhstan and subsidized imports of titanium sponge from Kazakhstan. Accordingly, effective August 24, 2017, the Commission, pursuant to sections 703(a) and 733(a) of the Act (19 U.S.C. 1671b(a) and 1673b(a)), instituted countervailing duty investigation No. 701-TA-587 and antidumping duty investigation Nos. 731-TA-1385-1386 (Preliminary).

Notice of the institution of the Commission's investigations and of a public conference to be held in connection therewith was given by posting copies of the notice in the Office of the Secretary, U.S. International Trade Commission, Washington, DC, and by publishing the notice in the Federal Register of September 1, 2017 (82 FR 41656). The conference was held in Washington, DC, on September 14, 2017, and all persons who requested the opportunity were permitted to appear in person or by counsel.

The Commission made these determinations pursuant to sections 703(a) and 733(a) of the Act (19 U.S.C. 1671b(a) and 1673b(a)). It completed and filed its determinations in these investigations on October 10, 2017. The views of the Commission are contained in USITC Publication 4736 (October 2017), entitled Titanium Sponge from Japan and Kazakhstan: Investigation Nos. 701-TA-587 and 731-TA-1385-1386 (Preliminary).

By order of the Commission.
Issued: October 10, 2017.
Lisa R. Barton,
Secretary to the Commission.

[FR Doc. 2017-22266 Filed 10-13-17; 8:45 am]

BILLING CODE 7020-02-P